DEPARTMENT OF THE TREASURY

Office of the Comptroller of the Currency

Agency Information Collection Activities: Information Collection Renewal; Submission for OMB Review; Community Reinvestment Act Regulation; Correction

AGENCY: Office of the Comptroller of the Currency (OCC), Treasury.

ACTION: Notice; correction.

SUMMARY: The OCC published a document in the Federal Register of October 21, 2024, concerning request for comments as part of its continuing effort to reduce paperwork and respondent burden, as required by the Paperwork Reduction Act of 1995 (PRA). The document contained an incorrect estimated number of respondents.

FOR FURTHER INFORMATION CONTACT: Shaquita Merritt, Clearance Officer, (202) 649-5490, Chief Counsel's Office, Office of the Comptroller of the Currency, 400 7th Street SW, Washington, DC 20219. If you are deaf, hard of hearing, or have a speech disability, please dial 7-1-1 to access telecommunications relay services.

SUPPLEMENTARY INFORMATION:

Correction

In the Federal Register of October 21, 2024, in FR Doc. 2024-24194, on page 84248, in the first column, correct the “Estimated Number of Respondents” to read:

Estimated Number of Respondents: 2,181.⁵

⁵ The Estimated Number of Respondents and Estimated Total Annual Burden were updated to (1) include Federally insured branches, (2) confirm the use of up-to-date bank asset sizes, and (3) make other clarifying revisions to ensure accurate estimates.

Dated: October 21, 2024.
Patrick T. Tierney,
Assistant Director, Office of the Comptroller of the Currency.

[FR Doc. 2024-24821 Filed 10-24-24; 8:45 am]

BILLING CODE 4810-33-P